DEPARTMENT OF HEALTH AND HUMAN SERVICES

Administration for Children and Families

Agency Recordkeeping/Reporting Requirement Under Emergency Review By the Office of Management and Budget (OMB)

Title: Custodial Sponsorship Agreement.

OMB No.: New Request.

Description: Following the passage of the 2002 Homeland Security Act (Pub. L. 107-296), the Administration for Children and Families (ACF), Office of Refugee Resettlement, is charged with the placement and care of unaccompanied alien children in Federal custody, and implementing a policy for releasing these children, when appropriate, to eligible sponsors. In order for the Office of Refugee Resettlement to authorize the release of these children, the potential sponsors must agree to certain conditions pursuant to section 462 of the Homeland Security Act and the Flores v. Reno Settlement Agreement (C.D. Cal. 1997). In this Notice, ACF announces that it proposes to employ the usage of a collection of information to indicate the agreement of a sponsor to the terms of a custodial release of an unaccompanied alien child. The Office of Refugee Resettlement considers the eligibility of a sponsor based on their ability and agreement to provide for the physical, mental and financial well-being of an unaccompanied minor and ensure the appearance before immigration courts. Eligible sponsors may be parents close relatives, friends, or entities concerned with the child's welfare. This document will also require the child being considered for release to understand the conditions of the custodial release.

Respondents

Potential sponsors of unaccompanied alien children and unaccompanied alien children in Federal custody.

Annual Burden Estimate
Number of respondents | Number of responses per respondent | Average burden hours per response | Total burden hours
5000 | 1 | .1 | 500

Estimated Total Annual Burden Hours: 500.

Additional Information: ACF is requesting that OMB grant a 90-day approval for this information collection under procedures for emergency processing by June 17, 2004. A copy of this information collection, with applicable supporting documentation, may be obtained by calling the Administration for Children and Families, Reports Clearance Officer, Robert Sargis at (202) 690-7275. In addition, a request may be made by sending an e-mail request to: grjohnson@acf.hhs.gov.

Comments and questions about the information collection described above should be directed to the following address by June 17, 2004: Office of Information and Regulatory Affairs, Attn. OMB Desk Officer for ACF, Office of Management and Budget, Paperwork Reduction Project, 725 17th Street, NW., Washington, DC 20503.

Dated: June 30, 2004.
Robert Sargis,
Reports Clearance Office.

[FR Doc. 04-13077 Filed 6-9-04; 8:45 am]

BILLING CODE 4184-01-M